DEPARTMENT OF ENERGY

Office of Fossil Energy

National Petroleum Council

AGENCY: Department of Energy.

ACTION: Notice of open meeting cancellation.

On September 15, 2004, the Department of Energy published a notice of open meeting announcing a September 30, 2004, meeting of the National Petroleum Council 69 FR 55629.

Today's notice is announcing the cancellation of that meeting.

Issued in Washington, DC on September 24, 2004.
Rachel M. Samuel,
Deputy Advisory Committee Management Officer.

[FR Doc. 04-21860 Filed 9-28-04; 8:45 am]

BILLING CODE 6450-01-P